DEPARTMENT OF TRANSPORTATION

Federal Railroad Administration

[Docket Nos. FRA-2015-0062 and FRA-2022-0098]

Brightline Trains Florida's and Florida East Coast Railway's Requests To Operate During a Temporary Outage of Their Positive Train Control Systems

AGENCY: Federal Railroad Administration (FRA), Department of Transportation (DOT).

ACTION: Notice of availability, request for comments, and notice of decision.

SUMMARY: This document provides the public with notice that, on December 5, 2025, Brightline Trains Florida (Brightline) and Florida East Coast Railway (FECR) each submitted a request for amendment (RFA) to their FRA-certified positive train control (PTC) systems. On December 5, 2025, Brightline and FECR experienced an outage of their PTC back office servers and a short-term loss of PTC functionality, temporarily impacting the operations of Brightline, FECR, and FECR's tenant railroad. On December 5, 2025, Brightline and FECR sought and obtained FRA's authorization under FRA's PTC regulations to continue rail operations, with certain conditions and restrictions, while their PTC systems were temporarily disabled.

DATES: FRA will review any comments received by December 19, 2025. FRA may consider comments received after that date to the extent practicable.

ADDRESSES:

Comments: Comments may be submitted by going to https://www.regulations.gov and following the online instructions for submitting comments.

Instructions: All submissions must include the agency name and the applicable docket number. The relevant PTC docket numbers for Brightline and FECR are Docket Nos. FRA-2022-0098 and FRA-2015-0062, respectively. For convenience, all active PTC dockets are hyperlinked on FRA's website at https://railroads.dot.gov/research-development/program-areas/train-control/ptc/railroads-ptc-dockets. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In general, title 49 of the United States Code (U.S.C.) section 20157(h) requires FRA to certify that a host railroad's PTC system complies with title 49 of the Code of Federal Regulations (CFR) part 236, subpart I, before the technology may be operated in revenue service. Before making certain changes to an FRA-certified PTC system or temporarily disabling the PTC system, a host railroad must submit, and obtain FRA's approval of, an RFA under 49 CFR 236.1021(m).

Under 49 CFR 236.1021(e), FRA's regulations provide that FRA will publish a notice in the Federal Register and invite public comment in accordance with 49 CFR part 211, if an RFA includes a request for approval of a material modification or discontinuance of a signal or train control system. Accordingly, this notice informs the public that, on December 5, 2025, Brightline and FECR each submitted an RFA to their PTC systems, the Interoperable Electronic Train Management System (I-ETMS), under 49 CFR 236.1021(m). Those RFAs are available in Docket Nos. FRA-2015-0062 and FRA-2022-0098. Interested parties are invited to comment on Brightline's and FECR's RFAs by submitting written comments or data.

FRA typically invites the public to comment on such RFAs for a period of 20 days, as FRA must issue a decision to the railroad within 45 days of receipt of the RFA. 49 CFR 236.1021(e), (m)(3)(i). However, FRA's PTC regulations, at § 236.1021(m)(3)(ii), recognize that FRA may issue a decision before the standard 45-day decision deadline in emergencies or under other circumstances necessitating immediate approval. Given the specific, unique circumstances and the impact to Brightline's and FECR's PTC-governed networks, FRA issued a decision on December 5, 2025 (the date of receipt of the RFAs), conditionally approving Brightline's and FECR's RFAs to enable them to continue operating without I-ETMS until 11:59pm EST on December 8, 2025, subject to speed limitations and other restrictions to help ensure rail safety. FRA's decision letter is available in both railroads' PTC dockets. FRA will review and consider any comments received during the comment period, even after issuing its decision.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2025-22585 Filed 12-10-25; 8:45 am]

BILLING CODE 4910-06-P